DEPARTMENT OF ENERGY

Western Area Power Administration

Consideration of Certain Public Utility Regulatory Policies Act Standards Set Forth in the Energy Policy Act of 2005

AGENCY: Western Area Power Administration, DOE.

ACTION: Notice of Public Hearing.

SUMMARY: As a nonregulated electric utility, the Western Area Power Administration (Western) must consider and determine whether to implement certain standards under the Energy Policy Act of 2005, which amended the Public Utility Regulatory Policies Act of 1978 (PURPA). Standards that Western intends to consider include net metering, fuel source diversity, fossil fuel generation efficiency, smart metering, and consumer interconnections. A brochure entitled “Preconsideration of Sections 1251, 1252, and 1254 of the Energy Policy Act of 2005” will be prepared and will be available for public review by September 25, 2006.

DATES: A public hearing will be held on October 26, 2006, beginning at 10 a.m., at Western's Corporate Service Office. Written comments on whether Western should adopt the standards must be received by November 10, 2006, to be assured of consideration.

ADDRESSES: The public hearing location is at 12155 West Alameda Parkway, Lakewood, CO. Western will post information about this process, including an electronic copy of the preconsideration brochure, at http://www.wapa.gov/dsw/pwrmkt/PURPA/. For further information concerning the public hearing or to request a hard copy of the brochure, contact Ms. Sylvia Macfarlane, Desert Southwest Region, Western Area Power Administration, P.O. Box 6457, Phoenix, AZ 85005-6457; (602) 605-2575, e-mail macfarl@wapa.gov. Written comments may be submitted to this address, submitted electronically to DSW_PURPA@wapa.gov or faxed to (602) 605-2828, attention: Deborah Emler, Project Manager.

As access to Western facilities is controlled, any U.S. citizen wishing to attend any meeting held at Western must present an official form of picture identification, such as a U.S. driver's license, U.S. passport, U.S. Government ID, or U.S. Military ID, at the time of the meeting. Foreign nationals should contact Western at least 45 days in advance of the meeting to obtain the necessary form to be admitted to Western's offices.

SUPPLEMENTARY INFORMATION: Western, as a non-regulated electric utility, is subject to Title XII, Subtitle E of the Energy Policy Act of 2005—Amendments to PURPA and is required to consider the implementation of certain standards.

Western was established on December 21, 1977, under the Department of Energy Organization Act of 1977 (DOE Act). The DOE Act transferred to the Secretary of Energy all functions of the Secretary of the Interior with respect to, among other things, the power marketing functions of the Bureau of Reclamation (Reclamation), including the construction, operation, and maintenance of transmission lines and attendant activities. Western was established to administer those functions transferred from Reclamation.

Western sells power to approximately 680 customers consisting of cooperatives, municipalities, public utility districts, private utilities, Federal and State Agencies, Indian tribes, water systems and irrigation districts. Electric power marketed by Western is generated by the hydroelectric resources of Reclamation, the Corps of Engineers, and the International Boundary and Water Commission. Additionally, Western markets the United States' entitlement from the large Navajo coal-fired plant near Page, Arizona.

Western's transmission system, totaling approximately 17,000 line miles with over 258 substations, includes several project-specific systems, some of which are interconnected with one another. There are also numerous interconnections between Western's systems and other systems. Geographically, Western's transmission systems operate in 15 States that are generally west of the Mississippi River.

Western's obligations to its customers are contractually established. Western neither claims nor accepts any utility responsibility. Customer requirements in excess of the power and energy available to that customer from Western must be obtained by the customer from other sources.

The major projects from which Western markets power include the Boulder Canyon Project, Central Arizona Project, Central Valley Project, Colorado River Storage Project, Colorado River Basin Project, Falcon-Amistad Project, Parker-Davis Project, and the Pick-Sloan Missouri Basin Program. Each of these projects is a separate entity with its own geographic area, power marketing criteria, revenue requirements, and power and energy rates. Consideration of the PURPA standards will be on a Western-wide basis, as opposed to a project-by-project or system-by-system basis.

A brochure entitled “Preconsideration of Sections 1251, 1252, and 1254 of the Energy Policy Act of 2005” will be prepared and will be made available on-line from Western at http://www.wapa.gov/dws/permkt/PURPA/ on September 25, 2006, and will be available at the public hearing.

After analyzing all comments received, Western will complete its consideration and will make a determination of the actions to be taken regarding the amended PURPA sections. Notice of Western's final action will be published in the Federal Register and will be made available to the public at http://www.wapa.gov/dsw/pwrmkt/PURPA/.

Regulatory Procedure Requirements

Regulatory Flexibility Analysis

The Regulatory Flexibility Act of 1980 (5 U.S.C. 601, et seq.) requires Federal agencies to perform a regulatory flexibility analysis if a final rule is likely to have a significant economic impact on a substantial number of small entities and there is a legal requirement to issue a general notice of proposed rulemaking. This action does not require a regulatory flexibility analysis since it is a rulemaking of particular applicability involving rates or services applicable to public property.

Environmental Compliance

In compliance with the National Environmental Policy Act of 1969 (NEPA) (42 U.S.C. 4321, et seq.); the Council on Environmental Quality Regulations for implementing NEPA (40 CFR parts 1500-1508); and DOE NEPA Implementing Procedures and Guidelines (10 CFR part 1021), Western has determined this action is categorically excluded from preparing an environmental assessment or an environmental impact statement.

Determination Under Executive Order 12866

Western has an exemption from centralized regulatory review under Executive Order 128656; accordingly, no clearance of this notice by the Office of Management and Budget is required.

Small Business Regulatory Enforcement Fairness Act

Western has determined that this rule is exempt from congressional notification requirements under 5 U.S.C. 801 because the action is a rulemaking of particular applicability relating to rates or services and involves matters of procedures.

Michael S. Hacskaylo,
Administrator.

[FR Doc. 06-6693 Filed 8-3-06; 8:45 am]

BILLING CODE 6450-01-M